EQUAL EMPLOYMENT OPPORTUNITY COMMISSION

Sunshine Act Meetings

AGENCY HOLDING THE MEETING: Equal Employment Opportunity Commission.

TIME AND DATE: Thursday, June 11, 2020, 1:00 p.m. Eastern Time.

PLACE: The meeting will be open to the public. Note: Because of the COVID-19 pandemic, the meeting will be held as an audio-only conference. The public may observe/listen to the audio-only conference by following the instructions that will be posted on www.eeoc.gov 24 hours before the meeting. Closed captioning services will be available.

STATUS: The meeting will be open to the public.

MATTER TO BE CONSIDERED: The following item will be considered at the meeting: Americans with Disabilities Act, Notice of Proposed Rulemaking on Wellness.

Note: In accordance with the Sunshine Act, the public will be able to observe/listen to the Commission's deliberations and voting. (In addition to publishing notices on EEOC Commission meetings in the Federal Register, the Commission also provides information about Commission meetings on its website, www.eeoc.gov., and provides a recorded announcement a week in advance on future Commission sessions.) Please telephone (202) 663-7100 (voice) or email commissionmeetingcomments@eeoc.gov at any time for information on this meeting.

CONTACT PERSON FOR MORE INFORMATION: Bernadette B. Wilson, Executive Officer on (202) 663-4077.

Raymond L. Peeler,
Assistant Legal Counsel.

[FR Doc. 2020-12108 Filed 6-1-20; 4:15 pm]

BILLING CODE 6570-01-P